DEPARTMENT OF AGRICULTURE

Forest Service

Southwest Washington Provincial Advisory Committee Meeting Notice

AGENCY: Forest Service, USDA.

ACTION: Notice of meeting.

SUMMARY: The Southwest Washington Province Advisory Committee will meet on Wednesday, January 21, 2004, at the Gifford Pinchot National Forest Headquarters, located in Vancouver, Washington, at 10600 NE. 51st Circle, Vancouver, WA 98682. The meeting will begin at 9 a.m. and continue until 4 p.m.

The purpose of the meeting is to: Receive advice on the Forest's implementation of Title II of the Secure Rural Schools and Community Self-Determination Act of 2000 (County Payments); to receive advice on the Forest's Fire Management Plan; to hear a landscape management presentation; to hear a wildfire management presentation; and to share information among members.

All Southwest Washington Province Advisory Committee meetings are open to the public. Interested citizens are encouraged to attend. The “open forum” provides opportunity for the public to bring issues, concerns, and discussion topics to the Advisory Committee. The “open forum” is scheduled to occur at 1 p.m. Interested speakers will need to register prior to the open forum period. The committee welcomes the public's written comments on committee business at any time.

FOR FURTHER INFORMATION CONTACT: Direct questions regarding this meeting to Tom Knappenbeger, Public Affairs Officer, at (360) 891-5005, or write Forest Headquarters Office, Gifford Pinchot National Forest, 10600 NE. 51st Circle, Vancouver, WA 98682.

Dated: January 12, 2004.
Tom Knappenbeger,
Acting Forest Supervisor.

[FR Doc. 04-959 Filed 1-15-04; 8:45 am]

BILLING CODE 3410-11-M